DEPARTMENT OF COMMERCE

International Trade Administration

[A-588-815]

Gray Portland Cement and Cement Clinker From Japan: Final Results of Expedited Sunset Review of the Antidumping Duty Order

AGENCY: Enforcement and Compliance, International Trade Administration, Department of Commerce.

SUMMARY: The U.S. Department of Commerce (Commerce) finds that revocation of the antidumping duty order on gray portland cement and cement clinker (cement and clinker) from Japan would be likely to lead to continuation or recurrence of dumping at the levels indicated in the “Final Results of Sunset Review” section of this notice.

DATES: Applicable October 4, 2022.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Background

On May 10, 1991, Commerce published its antidumping duty order on cement and clinker from Japan.¹ On July 17, 2017, Commerce published the continuation notice from the most recent sunset review of the Order.² On June 1, 2022, Commerce published the notice of initiation of the five-year sunset review of the Order, pursuant to section 751(c) of the Tariff Act of 1930, as amended (the Act).³ On June 16, 2022, Commerce received a notice of intent to participate in this review from the Committee for Fairly Traded Japanese Cement (Committee) within the deadline specified in 19 CFR 351.218(d)(1)(i).⁴ The Committee claimed interested party status under section 771(9)(E) of the Act, as a trade or business association, a majority of whose members manufacture, produce or wholesale a domestic like product in the United States. On July 1, 2022, the Committee provided a complete substantive response for this review within the 30-day deadline specified in 19 CFR 351.218(d)(3)(i).⁵ We received no substantive responses from other interested parties, nor was a hearing requested. On July 21, 2022, Commerce notified the U.S. International Trade Commission (ITC) that it did not receive an adequate substantive response from respondent interested parties.⁶ As a result, pursuant to section 751(c)(3)(B) of the Act and 19 CFR 351.218(e)(1)(ii)(C)(2), Commerce has conducted an expedited (120-day) sunset review of the Order.

¹ See Final Determination of Sales at Less Than Fair Value; Gray Portland Cement and Clinker from Japan, 56 FR 12156 (March 22, 1991), as amended by Antidumping Duty Order and Amendment to Final Determination of Sales at Less Than Fair Value: Gray Portland Cement and Clinker from Japan, 56 FR 21658 (May 10, 1991), and Amended Final Determination of Sales at Less Than Fair Value and Antidumping Order: Gray Portland Cement and Clinker from Japan, 60 FR 39150 (August 1, 1995) (Order).

² See Gray Portland Cement and Cement Clinker from Japan: Continuation of Antidumping Duty Order, 82 FR 32682 (July 17, 2017); see also Gray Portland Cement and Cement Clinker from Japan: Final Results of Expedited Fourth Sunset Review of the Antidumping Duty Order, 82 FR 12561 (March 6, 2017).

³ See Initiation of Five-Year (Sunset) Reviews, 87 FR 33123 (June 1, 2022) (Notice of Initiation).

⁴ See Committee's Letter, “The Domestic Industry's Notice of Intent to Participate in Sunset Review,” dated June 16, 2022.

⁵ See Committee's Letter, “The Domestic Industry's Substantive Response to the Notice of Initiation,” dated July 1, 2022.

⁶ See Commerce's Letter, “Sunset Reviews Initiated on June 1, 2022,” dated July 21, 2022.

Scope of the Order

The products covered by the Order are cement and cement clinker from Japan. Cement is a hydraulic cement and the primary component of concrete. Cement clinker, an intermediate material produced when manufacturing cement, has no use other than grinding into finished cement. Microfine cement was specifically excluded from the Order. Cement is currently classifiable under the Harmonized Tariff Schedule (HTS) subheading 2523.29 and cement clinker is currently classifiable under HTS subheading 2523.10. Cement has also been entered under HTS subheading 2523.90 as “other hydraulic cements.” The HTS subheadings are provided for convenience and customs purposes. The written product description remains dispositive as to the scope of the product covered by the Order.⁷

⁷ Commerce has made two scope rulings regarding subject merchandise. See Scope Rulings, 57 FR 19602 (May 7, 1992) (classes G and H of oil well cement are within the scope of the Order); see also Scope Rulings, 58 FR 27542 (May 10, 1993) (“Nittetsu Super Fine” cement is not within the scope of the Order).

Analysis of Comments Received

All issues raised in this review are addressed in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁸ See Memorandum “Issues and Decision Memorandum for the Final Results of the Expedited Sunset Review of the Antidumping Duty Order on Gray Portland Cement and Clinker from Japan,” dated concurrently with, and hereby adopted by, this notice (Issues and Decision Memorandum).

Final Results of Sunset Review

Pursuant to sections 751(c) and 752(c)(1) and (3) of the Act, we determine that revocation of the Order would be likely to lead to the continuation or recurrence of dumping and that the magnitude of the margin of dumping likely to prevail would be at a rate up to 69.89 percent.

Administrative Protective Order (APO)

This notice serves as the only reminder to interested parties subject to an APO of their responsibility concerning the disposition of proprietary information disclosed under APO in accordance with 19 CFR 351.305. Timely written notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: September 28, 2022.
Abdelali Elouaradia,
Deputy Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2022-21522 Filed 10-3-22; 8:45 am]

BILLING CODE 3510-DS-P